NUCLEAR REGULATORY COMMISSION

Letter of Agreement Between the U.S. Department of Interior Minerals Managements Service, Gulf of Mexico, OCS Region and the U.S. Nuclear Regulatory Commission, Concerning the Radiation Safety Inspections of Nuclear Regulatory Commission Licensed Activities on Offshore Facilities and Laybarges in Federal Jurisdiction

AGENCY: Nuclear Regulatory Commission.

ACTION: Notice.

SUMMARY: This notice is to advise the public of the issuance of a Letter of Agreement (LOA) between the U.S. Department of Interior Minerals Management Service (MMS) and the U.S. Nuclear Regulatory Commission (NRC). The purpose of the LOA is to describe the cooperative agreement between MMS and NRC in ensuring the protection of the public health and safety and the environment from the hazards of radioactive materials that may be used on offshore facilities and laybarges in offshore waters under Federal jurisdiction. The LOA provides for air transportation arrangements of NRC inspectors to offshore facilities by MMS-contracted helicopters at no charge or exchange of services to NRC. The LOA also provides for licensed material orientation and radiation safety program training to MMS staff by NRC.

EFFECTIVE DATE: January 7, 2000.

ADDRESSES: Copies of all NRC documents are available for public inspection, and copying for a fee, in the NRC Public Document Room, 2120 L Street, NW, (Lower Level), Washington, DC. The NRC Public Document Room is open from 7:45 a.m. to 4:15 p.m., Monday through Friday (except Federal holidays). Telephone service is provided from 8:30 a.m. to 4:15 p.m. at 202-634-3273 or toll-free at 1-800-397-4209.

FOR FURTHER INFORMATION CONTACT: Roberto J. Torres, NMSS, Mail Stop T8-F5, U.S. Nuclear Regulatory Commission, Washington, DC 20005-0001. Telephone: (301) 415-8112; Fax: (301) 415-5369; e-mail: rjt@nrc.gov.

Dated at Rockville, Maryland, this 28 day of February, 2000.
For the Nuclear Regulatory Commission.
Josephine M. Piccone,
Deputy Director, Division of Industrial and Medical Nuclear Safety, Office of Nuclear Material Safety and Safeguards.

Letter of Agreement Between the Department of the Interior Minerals Management Service Gulf of Mexico, OCS Region and the U.S. Nuclear Regulatory Commission Concerning the Radiation Safety Inspections of Nuclear Regulatory Commission Licensed Activities on Offshore Facilities and Laybarges in Federal Jurisdiction

I. Introduction

This Letter of Agreement (LOA) describes the cooperative agreement between the U.S. Department of the Interior Minerals Management Service (MMS) and the U.S. Nuclear Regulatory Commission (NRC) in ensuring the protection of the public health and safety and the environment from the hazards of radioactive materials that may be used on offshore facilities and laybarges in offshore waters under Federal jurisdiction.

II. Purpose and Scope

The purpose of this LOA is to identify the areas of cooperation between MMS and the NRC to facilitate NRC inspection of the safe use of radioactive materials on offshore facilities and laybarges. Mutual interests involve the inspection of such sites in order to verify that NRC-licensed activities are conducted safely and in compliance with NRC requirements, and ensure the safety of facility and laybarge personnel during the use of NRC-licensed radioactive material. Radioactive materials within the scope of this LOA mean byproduct, source, and special nuclear materials as defined in Sections 11e., 11z., and 11aa. of the Atomic Energy Act of 1954 (AEA), as amended, and the NRC's regulations thereunder. Offshore facilities and laybarges include those that are in offshore waters under Federal jurisdiction. The term “offshore waters” means that area of land and water, beyond Agreement States' Submerged Lands Act jurisdiction, on or above the U.S. Outer Continental Shelf.

III. Authority and Regulatory Program

A. MMS

The MMS is responsible for managing the mineral resources on the Outer Continental Shelf (OCS) of the United States in an environmentally sound and safe manner. In addition, MMS is both the resource manager and fiscal manager for collecting and accounting for OCS revenues and leasing OCS lands, regulating development activities to protect the coastal and marine environment, and ensuring that when operations are completed, the site is properly abandoned.

B. NRC

Under the AEA, as amended, the NRC is responsible for regulating the use of byproduct, source, and special nuclear material within the United States and its territories, consistent with its mission to ensure adequate protection of the public health and safety, to promote the common defense and security, and to protect the environment.

IV. Agency Responsibilities

The following are the offices responsible for this agreement:

For the Minerals Management Service: Regional Director U.S. Department of the Interior Minerals Management Service Gulf of Mexico OCS Region 1201 Elmwood Park Blvd. New Orleans, Louisiana 70123

For the Nuclear Regulatory Commission: Regional Administrator Region IV U.S. Nuclear Regulatory Commission 611 Ryan Plaza Drive, Suite 400 Arlington, Texas 76011

Each agency shall designate the agency organizational unit responsible for the coordination and management of activities covered by this LOA. Each agency shall designate the individual(s) who will serve as the respective coordination officer(s) or point(s) of contact (POC). The coordination officers or POCs will coordinate and facilitate actions required by their respective agencies.

NRC will notify known lease and pipeline operators working offshore that NRC, in cooperation with MMS, will be conducting unannounced inspections of NRC licensees performing licensed activities on offshore facilities and laybarges. NRC will comply with the personal safety and site access requirements mandated by each facility or laybarge operator.

NRC will provide MMS staff with licensed material orientation and radiation safety program training as MMS staff and NRC staff schedules will allow. The purpose of this orientation and training is to enable MMS to notify NRC in case MMS recognizes irregularities in licensees' activities. NRC will also provide MMS copies of inspection reports and event reports involving licensees working in offshore Federal waters.

MMS will arrange for transportation to offshore facilities or laybarges on MMS contracted helicopters for NRC inspectors based on availability and advance schedule coordination by NRC. MMS will provide this service at no financial charge or exchange of services to the NRC.

V. Elements of Coordination

Both agencies agree to exchange information with respect to relevant programs and lessons learned, resources permitting. The purpose of these exchanges is to provide expert technical assistance to both agencies. NRC will coordinate with the MMS Gulf of Mexico OCS Regional office for the scheduled inspection of licensees conducting licensed activities in offshore Federal waters. Additionally, NRC will coordinate the scheduling of offshore inspections with MMS based on guidance provided by MMS relative to seat availability on MMS contracted helicopters.

VI. Other Laws and Matters

Nothing in this LOA shall be deemed to restrict, modify, or otherwise limit the application or enforcement of any laws of the United States with respect to matters specified herein, nor shall anything in the LOA be construed as modifying the existing authority of either agency.

VII. Effective Date, Modification, and Termination of LOA

This LOA will take effect when it has been signed and dated by the authorized representatives of the MMS and the NRC. It may be modified by mutual written consent, or terminated by either agency upon 60 days advance written notice to the other agency.

Approved and Accepted for the Minerals Management Service

Chris Oynes,
Regional Director, U.S. Department of the Interior, Minerals Management Service, Gulf of Mexico OCS Region.
January 7, 2000.
Approved and Accepted for the Nuclear Regulatory Commission
Ellis W. Merschoff,
Regional Administrator, U.S. Nuclear Regulatory Commission.
December 23, 1999.

[FR Doc. 00-5150 Filed 3-2-00; 8:45 am]

BILLING CODE 7590-01-P